DEPARTMENT OF HEALTH AND HUMAN SERVICES

National Institutes of Health

Center for Scientific Review; Amended Notice of Meeting

Notice is hereby given of a change in the meeting of the Center for Scientific Review Special Emphasis Panel, October 24, 2013, 08:00 a.m. to October 25, 2013, 05:00 p.m., Doubletree Hotel Bethesda, (Formerly Holiday Inn Select), 8120 Wisconsin Avenue, Bethesda, MD 20814 which was published in the Federal Register on October 01, 2013, 78 FR 60298.

The meeting will be held at the National Institutes of Health, 6701 Rockledge Drive, Bethesda, MD 20892. The meeting will start on November 18, 2013 at 10:00 a.m. and end on November 19, 2013 at 06:00 p.m. The meeting is closed to the public.

Dated: October 22, 2013.
Michelle Trout,
Program Analyst, Office of Federal Advisory Committee Policy.

[FR Doc. 2013-25222 Filed 10-25-13; 8:45 am]

BILLING CODE 4140-01-P